EXPORT-IMPORT BANK

[Public Notice 2022-3028]

Agency Information Collection Activities: Final Collection; Comment Request; Form Title: EIB 09-01 Payment Default Report OMB 3048-0028

AGENCY: Export-Import Bank of the U.S.

ACTION: Submission for OMB review and comments request.

SUMMARY: The Export-Import Bank of the United States (EXIM), as a part of its continuing effort to reduce paperwork and respondent burden, invites the public and other Federal Agencies to comment on the proposed information collection, as required by the Paperwork Reduction Act of 1995. This collection allows insured/guaranteed parties and insurance brokers to report overdue payments from the borrower and/or guarantor. To facilitate completion, the form includes many checkboxes and self-populating fields. Also, customers can submit it electronically through EXIM Online, replacing paper reporting. EXIM provides insurance, loans, and loan guarantees for the financing of exports of goods and services. The form can be viewed at: https://www.exim.gov/sites/default/files//forms/eib09-01_0.pdf

DATES: Comments should be received on or before November 14, 2022 to be assured of consideration.

ADDRESSES: Comments may be submitted electronically on WWW.REGULATIONS.GOV or by mail to Office of Information and Regulatory Affairs, 725 17th Street NW, Washington, DC 20038, Attn: OMB 3048-0049.

SUPPLEMENTARY INFORMATION: Titles and Form Number: EIB 09-01, Payment Default Report.

OMB Number: 3048-0028.

Type of Review: Regular.

Need and Use: The information requested enables insured/guaranteed parties and insurance brokers to report overdue payments from the borrower and/or guarantor.

Affected Public:

This form affects Insured/guaranteed parties and brokers.

Annual Number of Respondents: 500.

Estimated Time per Respondent: 15 minutes.

Annual Burden Hours: 125 hours.

Frequency of Reporting of Use: Annual.

Government Expenses:

Reviewing time per year: 8.3 hours.

Average Wages per Hour: $42.50.

Average Cost per Year: $354.02. (time*wages)

Benefits and Overhead: 20%.

Total Government Cost: $424.83.

Andy Chang,
Director, IT Records Management.

[FR Doc. 2022-22327 Filed 10-13-22; 8:45 am]

BILLING CODE 6690-01-P